NATIONAL SCIENCE FOUNDATION

Notice of Permit Applications Received Under the Antarctic Conservation Act of 1978 (Pub. L. 95-541)

AGENCY: National Science Foundation.

ACTION: Notice of Permit Applications Received Under the Antarctic Conservation Act of 1978, Public Law 95-541.

SUMMARY: The National Science Foundation (NSF) is required to publish a notice of permit applications received to conduct activities regulated under the Antarctic Conservation Act of 1978. NSF has published regulations under the Antarctic Conservation Act at Title 45 Part 671 of the Code of Federal Regulations. This is the required notice of permit applications received.

DATES: Interested parties are invited to submit written data, comments, or views with respect to this permit application by September 30, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant

Harry Anderson,

Bainbridge Island, Washington.

Permit Application: 2014-010.

Activity for Which Permit is Requested: Waste Permit; The applicant proposes to fly to King George Island in early 2014. One person will fly the aircraft, a 2001 Lancair Columbia 300, from Punta Arenas Chile and land at the Chilean station Lieutenant Rodolfo Marsh Martin Aerodrome on King George Island. The pilot will refuel the aircraft and take off and return to Punta Arenas in the same day. With the exception of emissions resulting from operating the aircraft, all wastes generated during the flight will be contained and transported to Punta Arenas Chile for proper disposal. Absorbent pads will be used during refueling to prevent any spills. The applicant will also carry a spill kit with him.

Location: King George Island, Antarctic Peninsula Region.

Dates: January 1, 2014 to March 31 2014.

Nadene G. Kennedy,
Polar Coordination Specialist, Division of Polar Programs.

[FR Doc. 2013-21209 Filed 8-29-13; 8:45 am]

BILLING CODE 7555-01-P